FEDERAL COMMUNICATIONS COMMISSION

47 CFR Part 73

[DA 10-156; MB Docket No. 08-97; RM-11428]

Radio Broadcasting Services; Crowell, Knox City, Quanah, and Rule, TX

AGENCY: Federal Communications Commission.

ACTION: Final rule.

SUMMARY: The Audio Division modified the FM Table of Allotments by substituting Channel 293A for vacant Channel 291A at Knox City, Texas; Channel 288C2 for vacant Channel 239C2 at Rule, Texas; Channel 255C3 for vacant Channel 293C3 at Crowell, Texas; and Channel 251C3 for vacant Channel 255C3 at Quanah, Texas. Channel 255C3 can be allotted to Crowell, Texas at reference coordinates 34-03-58 NL and 99-43-52 WL, at a site 9.2 km (5.7 miles) north of Crowell. Channel 293A can be allotted to Knox City, Texas at reference coordinates 33-25-55 NL and 99-47-43 WL, at a site 2.7 km (1.6 miles) northeast of Knox City. Channel 251C3 can be allotted at Quanah, Texas at reference coordinates 34-24-09 NL and 99-46-02 WL, at a site 11.9 km (7.4 miles) north of Quanah. Channel 288C2 can be allotted at Rule, Texas at reference coordinates 33-10-29 NL and 99-49-26 WL, at a site 6.6 km (4.1 miles) east of Rule. See SUPPLEMENTARY INFORMATION, supra.

DATES: Effective November 7, 2012.

FOR FURTHER INFORMATION CONTACT: Rolanda F. Smith or Nazifa Sawez, Media Bureau, (202) 418-2700.

SUPPLEMENTARY INFORMATION: This is a synopsis of the Commission's Report and Order, adopted January 27, 2010, and released January 29, 2010. The full text of this Commission decision is available for inspection and copying during normal business hours in the FCC's Reference Information Center at Portals II, CY-A257, 445 Twelfth Street SW., Washington, DC 20554. This document may also be purchased from the Commission's duplicating contractors, Best Copy and Printing, Inc., 445 12th Street SW., Room CY-B402, Washington, DC 20554, telephone 1-800-378-3160 or via email www.BCPIWEB.com. This document does not contain proposed information collection requirements subject to the Paperwork Reduction Act of 1995, Public Law 104-13. The Commission will send a copy of this Report and Order in a report to be sent to Congress and the Government Accountability Office pursuant to the Congressional Review Act, see 5 U.S.C. 801(a)(1)(A).

The allotment changes that were adopted herein was subject to the final outcome of proceedings in MM Docket No. 00-148, and none of the vacant channels allocated in this proceeding will be available for auction until final resolution in MM Docket No. 00-148. In this instance, the proceedings in MM Docket No. 00-148 are considered final. See Quanah, Texas, et al, 76 FR 42573, published July 19, 2011. Thus, the FM broadcast construction permits for Channel 288C2 at Rule, Texas (MM-FM957-C2) and Channel 255C3 at Crowell, Texas (MM-FM1034-C3) will be auctioned in the upcoming FM Auction 94, scheduled for March 26, 2013. Channel 293A at Knox City, Texas and Channel 251C3 at Quanah, Texas will be auctioned in a future FM auction that will be announced in a subsequent Commission Order.

List of Subjects in 47 CFR Part 73

Radio, Radio broadcasting.

Federal Communications Commission.
Nazifa Sawez,
Assistant Chief, Audio Division, Media Bureau.

For the reasons discussed in the preamble, the Federal Communications Commission amends 47 CFR part 73 as follows:

PART 73—RADIO BROADCAST SERVICES

1. The authority citation for part 73 continues to read as follows:

Authority: 47 U.S.C. 154, 303, 334, 336.

§ 73.202 [Amended]

2. Section 73.202(b), the Table of FM Allotments under Texas, is amended by removing Channel 293C3 at Crowell and by adding Channel 255C3 at Crowell; by removing Channel 291A at Knox City and by adding Channel 293A at Knox City; by removing Channel 255C3 at Quanah and by adding Channel 251C3 at Quanah; and by removing Channel 239C2 at Rule and by adding Channel 288C2 at Rule.

[FR Doc. 2012-27195 Filed 11-6-12; 8:45 am]

BILLING CODE 6712-01-P